DEPARTMENT OF HOMELAND SECURITY

Transportation Security Administration

Intent To Request Revision From OMB of One Current Public Collection of Information: Critical Facility Information of the Top 100 Most Critical Pipelines

AGENCY: Transportation Security Administration, DHS.

ACTION: 60-Day notice.

SUMMARY: The Transportation Security Administration (TSA) invites public comment on one currently approved Information Collection Request (ICR), Office of Management and Budget (OMB) control number 1652-0050, abstracted below that we will submit to OMB for a revision in compliance with the Paperwork Reduction Act (PRA). The ICR addresses a statutory requirement for TSA to develop and implement a plan to inspect critical pipeline systems. On May 26, 2021, OMB approved TSA's request for an emergency revision of this collection to address the ongoing cybersecurity threat to pipeline systems and associated infrastructure. TSA is now seeking to renew and revise the collection as it expires on November 30, 2021. The ICR describes the nature of the information collection and its expected burden, which TSA is seeking to continue its collection of critical facility security information.

DATES: Send your comments by August 30, 2021.

ADDRESSES: Comments may be emailed to TSAPRA@dhs.gov or delivered to the TSA PRA Officer, Information Technology (IT), TSA-11, Transportation Security Administration, 6595 Springfield Center Drive, Springfield, VA 20598-6011

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0050; Critical Facility Information of the Top 100 Most Critical Pipelines: The Implementing Recommendations of the 9/11 Commission Act of 2007 (9/11 Act) specifically required TSA to develop and implement a plan for reviewing the pipeline security plans and inspecting the critical facilities of the 100 most critical pipeline systems.¹ Pipeline owner/operators determine which facilities qualify as critical facilities based on guidance and criteria set forth in the TSA Pipeline Security Guidelines published in December 2010 and 2011, with an update published in April 2021. To execute the 9/11 Act mandate, TSA visits critical pipeline facilities and collects site-specific information from pipeline owner/operators on facility security policies, procedures, and physical security measures.

¹ See sec. 1557 of the 9/11 Act, Public Law 110-53 (121 Stat. 266, 475; Aug. 3, 2007), as codified at 6 U.S.C. 1207.

TSA collects facility security information during the site visits using a Critical Facility Security Review (CFSR) form. The CFSR looks at individual pipeline facility security measures and procedures.² This collection is voluntary. Information collected from the reviews is analyzed and used to determine strengths and weaknesses at the nation's critical pipeline facilities, areas to target for risk reduction strategies, pipeline industry implementation of the voluntary guidelines, and the potential need for regulations in accordance with the 9/11 Act provision previously cited.

² The CFSR differs from a Corporate Security Review (CSR) conducted by TSA in another information collection that looks at corporate or company-wide security management plans and practices for pipeline operators. See OMB Control No. 1652-0056 at https://www.reginfo.gov for the PRA approval of information collection for these CSRs.

TSA visits with pipeline owner/operators to follow up on their implementation of security improvements and recommendations made during facility visits. During critical facility visits, TSA documents and provides recommendations to improve the security posture of the facility. TSA intends to continue to follow up with pipeline owner/operators via email on their status toward implementation of the recommendations made during the critical facility visits. The follow up will be conducted at intervals of six, 12, and 18 months after the facility visit.

TSA previously initiated the PRA approval process by publishing a notice on April 8, 2021, 86 FR 18291, announcing our intent to conduct this collection with a revision. Due to the emergency revision of the information collection, TSA is reinitiating the approval process.

Revision

TSA is revising the information collection to align the CFSR question set with the revised Pipeline Security Guidelines, and to capture additional criticality criteria. As a result, the question set has been edited by removing, adding and rewriting several questions, to meet the Pipeline Security Guidelines and criticality needs. Further, TSA is moving the collection instrument from a PDF format to an Excel Workbook format.

Emergency Revision

While the above listed collections are voluntary, on May 26, 2021, OMB approved TSA's request for an emergency revision of this information collection, allowing for the institution of mandatory requirements. See ICR Reference Number: 202105-1652-002. The revision was necessary as a result of the recent ransomware attack on one of the Nation's top pipeline supplies and other emerging threat information. In order to address the ongoing cybersecurity threat to pipeline systems and associated infrastructure, TSA issued a Security Directive (SD) applicable to owner/operators of a hazardous liquid and natural gas pipeline or liquefied natural gas facility notified by TSA that their pipeline system or facility is critical. These owner/operators are required to review Section 7 of TSA's Pipeline Security Guidelines and assess current activities, using the TSA Pipeline Cybersecurity Self-Assessment form, to address cyber risk, and identify remediation measures that will be taken to fill those gaps and a timeframe for achieving those measures. The form provided is based on the instrument used for the CFSRs, limited to cybersecurity issues and augmented to address the scope of the SD. The critical pipeline owner/operators are required to report the results of this assessment to TSA within 30 days of issuance of the SD. In cooperation with the Cybersecurity and Infrastructure Security Agency, TSA will use this information to make a global assessment of the cyber risk posture of the industry.

TSA is seeking renewal of this information collection for the maximum three-year approval period.

To the extent information provided by operators for each information collection is Sensitive Security Information (SSI), TSA will protect in accordance with procedures meeting the transmission, handling, and storage requirements of SSI set forth in 49 CFR parts 15 and 1520.

TSA estimates the annual hour burden for the information collection related to the voluntary collection of the CFSR form to be 320 hours. TSA will conduct a maximum of 80 facility reviews each year, with each review taking approximately 4 hours (320 = 80 × 4).

TSA estimates the annual hour burden for the information collection related to TSA follow ups on the recommendations based on the above CFSRs made to facility owner/operators to be 480 hours. TSA estimates each owner/operator will spend approximately 2 hours to submit a response to TSA regarding its voluntary implementation of security recommendations made during each critical facility visit. If a maximum of 80 critical facilities are reviewed each year, and TSA follows up with each facility owner/operator every 6, 12, and 18 months following the visit, the total annual burden is 480 (80 × 2 x 3) hours.

For the mandatory collection, TSA estimates 100 owner/operators will complete and submit the Pipeline Cybersecurity Self-Assessment form. It will take each owner/operator approximately 6 hours to complete and submit this form, for a total of 600 hours (100 × 6).

The total estimated burden for the entire information collection is 1,400 hours annually—320 hours for the CFSR form, 480 hours for the recommendations follow-up procedures, and 600 hours for the Pipeline Cybersecurity Self-Assessment form.

Dated: June 24, 2021.
Christina A. Walsh,
TSA Paperwork Reduction Act Officer, Information Technology.

[FR Doc. 2021-13884 Filed 6-29-21; 8:45 am]

BILLING CODE 9110-05-P